FEDERAL COMMUNICATIONS COMMISSION

47 CFR Part 73

[DA 03-1843; MB Docket No. 03-21, RM-10632, RM-10696]

Radio Broadcasting Services; Eastpoint and Port St. Joe, FL

AGENCY: Federal Communications Commission.

ACTION: Final rule.

SUMMARY: The Audio Division, at the request of Moira L. Ritch, allots Channel 270C3 to Port St. Joe, FL, as the community's second local FM transmission service. See 68 FR 7964, February 19, 2003. Channel 270C3 can be allotted to Port St. Joe in compliance with the Commission's minimum distance separation requirements with a site restriction 2.2 kilometers(1.4 miles) south to avoid short-spacing to the application site of Station WWAV, Channel 271C2, Santa Rosa, Florida and the license site of Station WBGE, Channel 270A, Bainbridge, Georgia. The reference coordinates for Channel 270C3 at Port St. Joe are 29-47-45 North Latitude and 85-17-27 West Longitude. In response to a counterproposal filed by Richard L. Plessinger, Sr., the Audio Division allots Channel 283A to Eastpoint, FL, as that community's first local aural transmission service. Channel 283A can be allotted to Eastpoint in compliance with the Commission's minimum distance separation requirements at city reference coordinates. The reference coordinates for Channel 283A at Eastpoint are 29-44-11 North Latitude and 84-52-42 West Longitude. Filing windows for Channel 270C3 at Port St. Joe, FL and Channel 283A at Eastpoint, FL, will not be opened at this time. Instead, the issue of opening a filing window for these channels will be addressed by the Commission in a subsequent order.

DATES: Effective July 14, 2003.

ADDRESSES: Federal Communications Commission, 445 Twelfth Street, SW., Washington, DC. 20554.

FOR FURTHER INFORMATION CONTACT: Rolanda F. Smith, Media Bureau, (202) 418-2180.

SUPPLEMENTARY INFORMATION: This is a synopsis of the Commission's Report and Order, MB Docket No. 03-21, adopted May 28, 2003, and released May 30, 2003. The full text of this Commission decision is available for inspection and copying during regular business hours at the FCC's Reference Information Center, Portals II, 445 Twelfth Street, SW., Room CY-A257, Washington, DC 20554. The complete text of this decision may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Accordingly, for the reasons set out in the preamble, 47 CFR Part 73 is amended as follows:

PART 73—RADIO BROADCAST SERVICES

1. The authority citation for part 73 continues to read as follows:

Authority: 47 U.S.C. 154, 303, 334 and 336.

§ 73.202 [Amended]

2. Section 73.202(b), the Table of FM Allotments under Florida, is amended by adding Eastpoint, Channel 283A and by adding Channel 270C3 at Port St. Joe.

Federal Communications Commission.
John A. Karousos,
Assistant Chief, Audio Division, Media Bureau.

[FR Doc. 03-15067 iled 6-13-03; 8:45 am]

BILLING CODE 6712-01-P